DEPARTMENT OF HEALTH AND HUMAN SERVICES

Administration for Children and Families

[OMB #0970-0531]

Proposed Information Collection Activity; Formative Data Collections for ACF Program Support

AGENCY: Administration for Children and Families, U.S. Department of Health and Human Services.

ACTION: Request for public comments.

SUMMARY: The Administration for Children and Families (ACF) plans to submit a request to the Office of Management and Budget (OMB) to extend approval of the existing overarching generic clearance for the Formative Data Collections for ACF Program Support. ACF proposes minor updates to supporting statement justification for the overarching generic for clarity.

DATES: Comments due June 27, 2025.

ADDRESSES: You can obtain copies of the proposed collection of information and submit comments by emailing infocollection@acf.hhs.gov. Identify all requests by the title of the information collection.

SUPPLEMENTARY INFORMATION: In compliance with the requirements of the Paperwork Reduction Act of 1995, ACF is soliciting public comment on the specific aspects of this request for an extension of the umbrella generic for Formative Data Collections for ACF Program Support (OMB #0970-0531; expiration date 06/30/2025).

Description: The goals of the generic information collections (GenICs) under this approval are to obtain information about program and grant recipient processes or needs and to inform the following types of activities, among others:

• Delivery of training or technical assistance (T/TA) and/or workflows related to program implementation or the development or refinement of program and grant recipient processes. This could include the development and refinement of recordkeeping or communication systems.

• Planning for provision of programmatic or evaluation-related T/TA.

• Obtaining input on the development of program performance measures (PM) from grant recipients or experts in a relevant field (such as development of PMs for programs focused on a specific population served by ACF).

• Obtaining feedback about processes and/or practices to inform ACF program development or support, or ACF research.

• Use of rapid-cycle testing activities to strengthen programs in preparation for summative evaluations.

• Development of learning agendas and research priorities.

• Requesting information about resources, programs, or other ACF services or related activities to provide consolidated public sources of information for those using or interested in ACF funded services, or those interested in systems, programs, or research related to ACF.

ACF uses a variety of techniques such as semi-structured discussions, focus groups, surveys, templates, open-ended requests, document analysis, observation, and telephone or in-person interviews in order to reach these goals.

Information collected under this overarching generic is meant to inform ACF activities and may be incorporated into documents or presentations that are made public such as through conference presentations, websites, or social media. The following are some examples of ways in which we may share information resulting from these data collections: technical assistance plans, presentations, infographics, project specific reports, or other documents relevant to the field, such as federal leadership and staff, grant recipients, local implementing agencies, and/or T/TA providers. We may also request information for the sole purpose of publication in cases where we are working to create a single source for users (clients, programs, researchers) to find information about resources such as services in their area, TA materials, different types of programs or systems available, or research using ACF data.

Any planned uses, including for publication or sharing of information from this IC will be described and submitted for approval in each individual GenIC.

Following standard OMB requirements, ACF will submit GenIC request for each specific data collection activity under this generic clearance. Each request will include the individual instrument(s), a justification specific to the individual information collection, and any supplementary documents. ACF asks that OMB review individual requests expeditiously, ideally within 10 days of submission.

The proposed types and the purpose of generic information collections submitted under this umbrella generic remain the same. Minor revisions are proposed to the description provided in the justification for clarification about purpose and use and in alignment with current priorities of ACF.

Respondents: Example respondents include current or prospective service providers, T/TA providers, grant recipients, contractors, current and potential participants in ACF programs or similar comparison groups, experts in fields pertaining to ACF programs, key groups involved in ACF projects and programs, individuals engaged in program re-design or demonstration development for evaluation, state or local government officials, or others involved in or prospectively involved in ACF programs whose engagement could directly inform the improvement of ACF programs.

Annual Burden Estimates

ACF anticipates extending approval for about 30 of the currently approved GenICs under this generic. Currently approved GenICs can be found here: https://www.reginfo.gov/public/do/PRAICList?ref_nbr=202412-0970-005.

Burden estimates for the following 3 years are provided in the following table.

Instrument | Number of respondents (total over request period) | Number of responses per respondent (total over request period) | Avg. burden per response (in hours) | Total burden (in hours)
Semi-Structured Discussions and Focus Groups | 10,000 | 1 | 2 | 20,000
Interviews | 4,500 | 1 | 1 | 4,500
Questionnaires/Surveys | 8,000 | 1.5 | .5 | 6,000
Estimated Total Annual Burden Hours |  |  |  | 30,500

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary C. Jones,
ACF/OPRE Certifying Officer.

[FR Doc. 2025-07079 Filed 4-25-25; 8:45 am]

BILLING CODE 4184-88-P